ENVIRONMENTAL PROTECTION AGENCY

[OPP-2002-0285; FRL-7285-4]

Draft Guidance on How to Comply with Data Citation Regulations; Extension of Comment Period

AGENCY: Environmental Protection Agency (EPA).

ACTION: Notice; extension of comment period.

SUMMARY: EPA issued a notice in theFederal Register of November 13, 2002, titled “Draft Guidance on How to Comply with Data Citation Regulations.” This document is extending the comment period for 30 days, from December 13, 2002, to January 12, 2003.

DATES: Comments, identified by docket ID number OPP-2002-0285 must be received on or before January 12, 2003.

ADDRESSES: Comments may be submitted electronically, by mail, or through hand delivery/courier. Follow the detailed instructions as provided in Unit I.C. of the SUPPLEMENTARY INFORMATION of the November 13, 2002 Federal Register document.

FOR FURTHER INFORMATION CONTACT: Peter Caulkins, Registration Division (7505C), Office of Pesticide Programs, Environmental Protection Agency, 1200 Pennsylvania Ave., NW., Washington, DC 20460-0001; telephone number: (703) 305-5447; e-mail address: caulkins.peter@epa.gov.

SUPPLEMENTARY INFORMATION:

I. General Information

A. Does this Action Apply to Me?

The Agency included in the November 13, 2002 Federal Register notice a list of those who may be potentially affected by this action. If you have questions regarding the applicability of this action to a particular entity, consult the person listed under FOR FURTHER INFORMATION CONTACT.

B. How Can I Get Copies of this Document and Other Related Information?

1. Docket. EPA has established an official public docket for this action under docket identification (ID) number OPP-2002-0285. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, follow the detailed instructions as provided in Unit I.C. of theSUPPLEMENTARY INFORMATION of the November 13, 2002Federal Register document. If you have questions, consult the person listed under FOR FURTHER INFORMATION CONTACT.

II. What Action is EPA Taking?

This document extends the public comment period established in theFederal Register of November 13, 2002 (67 FR 68866) (FRL-7278-1). In that document, EPA announced the availability of draft guidance on how to comply with the Agency's data citation requirements for registration of new pesticide products under the Federal Insecticide, Fungicide, and Rodenticide Act. The draft quidance will assist applicants in complying with the data citation requirements that ultimately would result in fewer delays in the registration process. EPA is hereby extending the comment period, which was set to end on December 13, 2002, to January 12, 2003.

List of Subjects

Environmental protection, Administrative practice and procedures, Pesticides and pests.

Dated: December 4, 2002.
Peter Caulkins,
Director, Registration Division, Office of Pesticide Programs.

[FR Doc. 02-31164 Filed 12-6-02; 10:10 am]

BILLING CODE 6560-50-S